DEPARTMENT OF TRANSPORTATION

Federal Transit Administration

Job Access and Reverse Commute Program Announcement of Project Selection

AGENCY: Federal Transit Administration, DOT.

ACTION: Notice.

SUMMARY: The U.S. Department of Transportation (DOT) Federal Transit Administration (FTA) announces the selection of projects to be funded under Fiscal Year 2002 appropriations for the Job Access and Reverse Commute (JARC) Program, authorized by Section 3037 of the Transportation Equity Act for the 21st Century (TEA-21). A total of $125 million was available for the JARC Program in FY 2002, the guaranteed funding level under TEA-21. In the Congressional conference committee report language accompanying the appropriations bill, $109.3 million was designated for projects in specific areas. However, the General Accounting Office, in a December 2001 report to Congress, concluded that FTA could only select and fund projects through a national competition as specified in the JARC legislation. Accordingly, FTA required all applicants for FY 2002 JARC funding, including those designated in Congressional report language, to submit a project proposal application to be evaluated, scored, and ranked against all others. Subsequently, however, in the FY 2003 Supplemental Appropriations Act (H.R. 4775), signed into law on August 2, 2002, Congress authorized and instructed FTA to fund all projects designated in the report language upon receipt of an application. A number of applications for projects in congressionally-designated areas were submitted in FY 2002 and FTA has obligated $13 million for those projects. The list of congressionally-designated areas was included in FTA's 2002 Annual Apportionment Notice, published in the Federal Register on January 2, 2002. That notice can be found at: http://www.fta.dot.gov/library/legal/federalregister/2002/fr1202a.pdf.

Because FTA solicited applications for both 2002 and 2003 funding, we will be prepared to announce projects selected for FY 2003 funds as soon as these funds become available.

Local agencies and authorities and private non-profit organizations are eligible to apply for JARC Program funds. Local agencies and authorities include states, local governments, metropolitan planning organizations, public transit agencies and tribal organizations. A Job Access project is one that provides new or expanded transportation service designed to fill gaps that exist for welfare recipients and other low-income individuals to and from jobs and other employment-related services. A Reverse Commute project facilitates the provision of new or expanded public mass transportation services for the general public from urban, suburban, and rural areas to suburban work sites. Capital and operating costs for such projects are eligible.

FOR FURTHER INFORMATION CONTACT: The appropriate FTA Regional Administrator for grant-specific issues; or Sue Masselink, Office of Program Management, 202-366-2053 for general information about the JARC Program.

SUPPLEMENTARY INFORMATION: After setting aside the $109.3 million for Congressional earmarks, a total of $15.7 million was available for allocation by FTA. In FY 2002, the total amount requested from applicants other than those with Congressional earmarks was $43 million. Among these applicants, 49 requested $23 million for 108 continuation projects and 39 requested $20 million for 77 new projects. In order to encourage the creation of partnerships at the local level and afford a reasonable period in which to establish and sustain service, FTA announced in the solicitation notice that it would give funding priority to continuation projects. Because of the limited funding available for competitive allocation by FTA, only 76 of the 108 proposed continuation projects were selected for funding, and none of the 77 proposed new projects were funded. The 76 projects selected were submitted by 39 applicants, and are being funded at a total of $16,765,367. The $15.7 million in available FY 2002 funds, together with a small balance of unobligated and uncommitted funds from prior years, will be used to fund the selected projects. The following continuation projects rated most meritorious in the evaluation process have been selected for funding:

Region | State | Agency | Amount
I | MA | Massachusetts Office of Transportation and Construction | $1,064,223
| MA | Massachusetts Bay Transportation Authority | 803,810
| MA | Pioneer Valley Transportation Authority | 300,000
| NH | City of Nashua | 149,302
II | NY | New York Metropolitan Transportation Council | 396,941
| NY | Central NY Regional Transportation Authority | 104,167
| NY | Capital District Transportation Authority | 232,250
III | PA | Southeastern PA Transit Authority (SEPTA) | 116,300
IV | FL | Jacksonville Transportation Authority | 1,569,750
| GA | Georgia Department of Transportation | 200,000
| NC | North Carolina Department of Transportation | 122,000
V | IL | Chicago Transit Authority | 1,128,000
| IL | Metra Commuter Rail Board | 75,000
| IL | Regional Transportation Authority | 100,000
| IL | Sparta-Monroe Randolph Co. Transit Consortium | 113,000
| IN | Muncie Public Transit Corporation | 106,722
| MI | City of Detroit Employment and Training Dept. | 1,436,482
| MI | Michigan Department of Transportation | 814,408
| OH | Lorain County Transit | 114,475
| OH | Western Reserve Transit Authority | 750,000
VI | LA | Louisiana Dept. of Transportation & Development | 1,234,492
| TX | City of Abilene—CityLink | 100,000
| TX | City of El Paso Mass Transit Dept. (Sun Metro) | 250,000
| TX | City of Lubbock/Citibus | 460,000
| TX | Fort Worth Transportation Authority | 200,000
VII | IL | Rock Island County Metropolitan Transit District | 184,625
| MO | City Utilities of Springfield (CUS) | 643,000
| MO | East-West Gateway Coordinating Council | 305,197
| MO | Missouri Department of Transportation | 750,000
VIII | CO | City of Loveland | 97,355
| CO | City of Ft. Collins | 130,981
| CO | Mesa County | 200,000
| CO | Archuleta County Department of Social Services | 85,887
| ND | Standing Rock Public Transportation | 63,500
IX | AZ | Maricopa Association of Governments (MAG) | 1,500,000
| CA | Mendocino Transit Authority | 80,000
| CA | Metropolitan Transit Development Board | 388,500
| CA | Napa County TPA | 20,000
| CA | San Luis Obispo Council of Governments | 25,000
X | OR | Central Oregon Commuter Network | 350,000

Pre-Award Authority

JARC costs may be incurred for eligible projects before grants are made without prejudice to possible Federal participation in the cost of the project(s). However, in exercising pre-award authority, applicants must comply with all Federal requirements. Failure to do so will render a project ineligible for FTA financial assistance. Applicants must consult the appropriate FTA regional office regarding the eligibility of the project for future FTA funds or the applicability of the conditions and Federal requirements. Pre-award spending authority is provided effective December 18, 2001, the date on which the Department of Transportation (DOT) and Related Agencies Appropriations Act for Fiscal Year 2002 was signed into law by President Bush.

Certifications and Assurances

In accordance with 49 U.S.C. 5323(n), certifications and assurances have been compiled for the various FTA programs. Before FTA may award a Federal grant, each successful applicant must provide to FTA all certifications and assurances required by Federal laws and regulations applicable to itself and its project. A state providing certifications and assurances on behalf of its prospective subrecipients should obtain sufficient documentation from those subrecipients needed to provide informed certifications and assurances.

The signature page accompanying the Certifications and Assurances contains the current fiscal year's certifications assurances and, when properly attested to and submitted to FTA, assures FTA that the applicant intends to comply with the requirements for the specific program involved. FTA will not award any federal assistance until the successful applicant provides assurance of compliance by selecting Category I on the signature page and all other categories applicable to itself and its project.

FTA's (FY) 2003 Certifications and Assurances Notice is expected to be published in the Federal Register soon. The document is already available on the opening page of the TEAM Website. Copies may also be obtained from FTA regional offices. Applicants that need further assistance should contact the appropriate FTA regional office (see Appendix A) for further information.

U.S. Department of Labor Certification

As a condition of release of Federal funds for this program, Federal Transit law requires that applicants must comply with 49 U.S.C. 5333(b), administered under the Department of Labor's (DOL) Mass Transit Employee Protection Program. These employee protections include the preservation of rights, privileges, and benefits under existing collective bargaining agreements, the continuation of collective bargaining rights, the protection of individual employees against a worsening of their positions related to employment, assurances of employment to employees of acquired mass transportation systems, priority of reemployment, and paid training or retraining. Generally, DOL processes the employee protection certification required under Section 5333(b) in accordance with the procedural guidelines published at 29 CFR 215.3. However, for the Job Access and Reverse Commute Grants program, DOL has proposed to apply appropriate protections without referral for Job Access and Reverse Commute Grant applications serving populations under 200,000 and to utilize the guidelines for Job Access and Reverse Commute Grant applications serving populations of 200,000 or more. FTA will submit the grant application to DOL for certification. Grant funds will NOT be released without DOL certification. Where there are questions regarding the DOL certification process and/or information needed by DOL to obtain a labor certification, successful applicants must contact the appropriate FTA regional office (See Appendix A). Additional guidance is provided on the World Wide Web at http://www.fta.dot.gov/wtw/labor.htm.

Completed Applications

All successful applicants must now proceed to complete their grant application by fully documenting all the Job Access and Reverse Commute Grant program requirements that were not fully documented when the original grant proposal was submitted. In a few cases, not all projects in the applicant's proposal were selected. FTA regional offices will advise applicants by letter of any conditions relative to the selection or remaining outstanding items, as well as stipulations specific to the Job Access and Reverse Commute Grant projects that need to be addressed and/or fully documented prior to grant approval. Successful applicants will be notified in writing by the FTA regional offices with further guidance.

Issued on October 23, 2002.
Jennifer L. Dorn,
Administrator.

Appendix A—FTA Regional Offices

Region I

Maine, New Hampshire, Vermont, Connecticut, Rhode Island, and Massachusetts. Richard Doyle, FTA Regional Administrator, Volpe National Transportation Systems Center, Kendall Square, 55 Broadway, Suite 920, Cambridge, MA 02142-1093, (617) 494-2055.

Region II

New York, New Jersey, and Virgin Islands. Letitia Thompson, FTA Regional Administrator, One Bowling Green, Room 429, New York, NY 10004-1415, (212) 668-2170.

Region III

Pennsylvania, Delaware, Maryland, Virginia, West Virginia, and District of Columbia. Susan Schruth, FTA Regional Administrator, 1760 Market Street, Suite 500, Philadelphia, PA 19103-4124, (215) 656-7100.

Region IV

Kentucky, North Carolina, South Carolina, Georgia, Florida, Alabama, Mississippi, Tennessee, and Puerto Rico. Jerry Franklin, FTA Regional Administrator, 61 Forsyth Street, SW., Suite 17T50, Atlanta, GA 30303, (404) 562-3500.

Region V

Minnesota, Wisconsin, Michigan, Illinois, Indiana, and Ohio. Joel Ettinger, FTA Regional Administrator, 200 West Adams Street, Suite 2410, Chicago, IL 60606-5232, (312) 353-2789.

Region VI

Arkansas, Louisiana, Oklahoma, Texas, and New Mexico. Robert Patrick, FTA Regional Administrator, 819 Taylor Street, Room 8A36, Ft. Worth, TX 76102, (817) 978-0550.

Region VII

Missouri, Iowa, Kansas, and Nebraska. Mokhtee Ahmad, FTA Regional Administrator, 901 Locust Street, Suite 404, Kansas City, MO 64106, (816) 329-3920.

Region VIII

Colorado, Utah, Wyoming, Montana, North Dakota, South Dakota. Lee Waddleton, FTA Regional Administrator, Columbine Place, 216 16th Street, Suite 650, Denver, CO 80202-5120, (303) 844-3242.

Region IX

California, Hawaii, Guam, Arizona, Nevada, American Samoa, and the Northern Mariana Islands. Leslie Rogers, FTA Regional Administrator, 201 Mission Street, Suite 2210, San Francisco, CA 94105-1839, (415) 744-3133.

Region X

Idaho, Oregon, Washington, and Alaska. Richard F. Krochalis, FTA Regional Administrator, Jackson Federal Building, 915 Second Avenue, Suite 3142, Seattle, WA 98174-1002, (206) 220-7954.

[FR Doc. 02-27995 Filed 11-1-02; 8:45 am]

BILLING CODE 4910-57-P